COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List products previously furnished by such agencies.

EFFECTIVE DATE: July 14, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On April 16, 2004, the Committee for Purchase From People Who Are Blind or Severely Disabled published notice (69 FR 20591) of proposed additions to the Procurement List. After consideration of the material presented to it concerning capability of qualified nonprofit agencies to provide the services and impact of the additions on the current or most recent contractors, the Committee has determined that the services listed below are suitable for procurement by the Federal government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the government.

2. The action will result in authorizing small entities to furnish the services to the government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Federal Building, Courthouse, Raleigh, North Carolina; Federal Building, Post Office, Century Station, Raleigh, North Carolina; Federal Building, Post Office, Courthouse, Elizabeth City, North Carolina; U.S. Courthouse, Greenville, North Carolina.

NPA: Orange Enterprises, Inc., Hillsborough, North Carolina.

Contract Activity: GSA, Property Management Center (4PMC), Charlotte, North Carolina.

Service Type/Location: Janitorial/Grounds and Related Services, Clearfield Federal Depot, Buildings C-6, C-7, D-5 and 2, Clearfield, Utah.

NPA: Pioneer Adult Rehabilitation Center Davis County School District, Clearfield, Utah.

Contract Activity: GSA, Mountain Plains Service Center, Salt Lake City, Utah.

Deletions

On April 16, 2004, the Committee for Purchase From People Who Are Blind or Severely Disabled published notice (69 FR 20591/20592) of proposed deletions to the Procurement List.

After consideration of the relevant matter presented, the Committee has determined that the products listed below are no longer suitable for procurement by the Federal government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the government.

3. There are no known regulatory alternatives which would accomplish the objectives of the Javits-Wagner-O'Day Act (41 U.S.C. 46-48c) in connection with the products deleted from the Procurement List.

End of Certification

Accordingly, the following products are deleted from the Procurement List:

Products

Product/NSN: Cloth, Super Wipe, M.R. 565.

NPA: Industries of the Blind, Inc., Greensboro, North Carolina.

Contract Activity: Defense Commissary Agency (DeCA), Ft. Lee, Virginia.

Product/NSN: Cup, Drinking, Styrofoam, M.R. 537.

NPA: The Oklahoma League for the Blind, Oklahoma City, Oklahoma.

Contract Activity: Defense Commissary Agency (DeCA), Ft. Lee, Virginia.

Product/NSN: Ergonomic Kitchen Gadgets (Ergo Nylon Square Turner), M.R. 880.

NPA: Cincinnati Association for the Blind, Cincinnati, Ohio.

Contract Activity: Defense Commissary Agency (DeCA), Ft. Lee, Virginia.

Product/NSN: Kitchen, Utensils (Spatula, Plate and Bowl), M.R. 832.

NPA: Dallas Lighthouse for the Blind, Dallas, Texas.

Contract Activity: Defense Commissary Agency (DeCA), Ft. Lee, Virginia.

Product/NSN: Mophead, Cotton Yarn, Wet, M.R. 937.

NPA: Arizona Industries for the Blind, Phoenix, Arizona.

NPA: New York Association for the Blind, Long Island, New York.

NPA: Mississippi Industries for the Blind, Jackson, Mississippi.

Contract Activity: Defense Commissary Agency (DeCA), Ft. Lee, Virginia.

Product/NSN: Scrubber, Pat & Dish and Refill, M.R. 592.

NPA: Lighthouse International, New York, New York.

Contract Activity: Defense Commissary Agency (DeCA), Ft. Lee, Virginia.

Product/NSN: Sponge, Bath, M.R. 593.

NPA: Industries for the Blind, Greensboro, North Carolina.

Contract Activity: Defense Commissary Agency (DeCA), Ft. Lee, Virginia.

Product/NSN: Vegetable, Peeler, Stainless Steel, M.R. 825.

NPA: Cincinnati Association for the Blind, Cincinnati, Ohio.

Contract Activity: Defense Commissary Agency (DeCA), Ft. Lee, Virginia.

Sheryl D. Kennerly,
Director, Information Management.

[FR Doc. 04-13296 Filed 6-10-04; 8:45 am]

BILLING CODE 6353-01-P